DEPARTMENT OF COMMERCE

International Trade Administration

[C-508-605]

Industrial Phosphoric Acid From Israel: Notice of Extension of Time Limit for Countervailing Duty Administrative Review

AGENCY: Import Administration, International Trade Administration, Department of Commerce.

EFFECTIVE DATE: April 11, 2000.

SUMMARY: The Department of Commerce (the Department) is extending the time limit for the preliminary results of the administrative review of the countervailing duty order on industrial phosphoric acid from Israel. The review covers the period January 1, 1998 through December 31, 1998.

FOR FURTHER INFORMATION CONTACT: Sean Carey or Jonathan Lyons, AD/CVD Enforcement Office 7, Import Administration, International Trade Administration, U.S. Department of Commerce, 14th Street and Constitution Avenue, NW, Washington, DC 20230, telephone: (202) 482-3964 or (202) 482-0374, respectively.

Postponement of Preliminary Results of Review

On October 1, 1999, the Department published a notice of initiation of an administrative review of the countervailing duty order on industrial phosphoric acid from Israel, covering the period January 1, 1998 through December 31, 1998 (64 FR 53318). The preliminary results are currently due no later than May 2, 2000.

Section 751(a)(3)(A) of the Tariff Act, as amended (the Act), requires the Department to make a preliminary determination within 245 days after the last day of the anniversary month of an order/finding for which a review is requested. However, if it is not practicable to complete the preliminary results within this time period, section 751(a)(3)(A) of the Act allows the Department to extend the time limit for a preliminary determination to a maximum of 365 days.

We determine that it is not practicable to complete the preliminary results of this review within the original time limit. Therefore, the Department is extending the time limit for completion of the preliminary results to no later than August 30, 2000. See Memorandum from Richard O. Weible to Joseph A. Spetrini, dated April 5, 2000, which is on file in the Central Records Unit, Room B-099 of the main Commerce Building. This extension is in accordance with section 751(a)(3)(A) of the Act.

Dated: April 5, 2000.
Joseph A. Spetrini,
Deputy Assistant Secretary Enforcement Group III.

[FR Doc. 00-8983 Filed 4-10-00; 8:45 am]

BILLING CODE 3510-DS-P